DEPARTMENT OF THE INTERIOR

Office of the Secretary

43 CFR Part 10

RIN 1024-AC84

Native American Graves Protection and Repatriation Act Regulations—Civil Penalties; Correction

AGENCY: Department of the Interior.

ACTION: Final rules correction.

SUMMARY: This document corrects the final rule that was published on Thursday, April 3, 2003. This final rule outlines procedures for assessing civil penalties on museums that fail to comply with applicable provisions of the Native American Graves Protection and Repatriation Act of 1990 (“the Act” or “NAGPRA”).

EFFECTIVE DATE: May 5, 2003.

FOR FURTHER INFORMATION CONTACT: Mr. John Robbins, Assistant Director, Cultural Resources, National Park Service, 1849 C Street NW., (2253), Washington, DC 20240, telephone (202) 354-2269.

SUPPLEMENTARY INFORMATION:

Background

On November 16, 1990, President George Bush signed the Act into law. The Act addresses the rights of lineal descendants, Indian tribes, and Native Hawaiian organizations to Native American human remains, funerary objects, sacred objects, and cultural patrimony with which they are affiliated. Section 9 of the Act authorizes the Secretary of the Interior (“the Secretary”) to assess a civil penalty against any museum that fails to comply with the requirements of the Act [25 U.S.C. 3007]. Such penalties must be assessed according to procedures established by the Secretary through regulation. An interim rule establishing civil penalty procedures was published in the Federal Register on January 13, 1997 (62 FR 1820), and went into effect on February 12, 1997. A final rule establishing civil penalty procedures was published in the Federal Register on April 3, 2003 (68 FR 16354), and went into effect on May 5, 2003. As published, the final rule contains an error that needs to be corrected.

Need for Correction: The correction clarifies the amendatory instruction to make it clear that the final rule published in the Federal Register on April 3, 2003 (68 FR 16354) replaces the interim rule published in the Federal Register on January 13, 1997 (62 FR 1820).

List of Subjects in 43 CFR Part 10

Administrative practices and procedure, Hawaiian Natives, Historic preservation, Indians—Claims, Museums, Reporting and record-keeping requirements.

Accordingly, the final rule amending title 43 CFR part 10 published April 3, 2003 (68 FR 16354) is corrected as follows:

PART 10—NATIVE AMERICAN GRAVES PROTECTION AND REPATRIATION ACT REGULATIONS

The authority citation for Part 10 continues to read as follows:

Authority: 25 U.S.C. 3001 et seq.

In FR Doc. 03-7947 published on April 3, 2003, (68 FR 16354), make the following technical correction: On page 16360, in the second column, the amendatory instruction below the authority citation indicates that Part 10 is amended by “adding” § 10.12. The sentence is amended to read “Part 10 is amended by revising § 10.12 as follows:”.

Dated: June 16, 2003.
Craig Manson,
Assistant Secretary for Fish and Wildlife and Parks.

[FR Doc. 03-16802 Filed 7-2-03; 8:45 am]

BILLING CODE 4312-50-P